DEPARTMENT OF HEALTH AND HUMAN SERVICES

Centers for Disease Control and Prevention

Notice of Award of a Single-Source Cooperative Agreement To Fund the International Federation of Red Cross and Red Crescent Societies (IFRC)

AGENCY: Centers for Disease Control and Prevention (CDC), Department of Health and Human Services (HHS).

ACTION: Notice.

SUMMARY: The Centers for Disease Control and Prevention (CDC), located within the Department of Health and Human Services (HHS), announces the award of approximately $6,000,000 for Year 1 funding to the International Federation of Red Cross and Red Crescent Societies. The award will utilize IFRC's unique expertise, skills and access to countries and subnational consequential geographies that are inaccessible to CDC personnel, to continue polio eradication activities as well as to deliver measles and other life-saving vaccine preventable disease (VPD) interventions in priority countries. Funding amounts for years 2-5 will be set at continuation.

DATES: The period for this award will be July 1, 2023 through June 30, 2028.

FOR FURTHER INFORMATION CONTACT: Mary A. Mulholland, Center for Global Health, Centers for Disease Control and Prevention, 1600 Clifton Rd. NE, Atlanta, GA 30333, Telephone: 404-553-7371, E-Mail: mmulholland@cdc.gov.

SUPPLEMENTARY INFORMATION: The single-source award will support IFRC's polio eradication activities and the delivery of measles and other life-saving vaccine preventable disease (VPD) interventions in priority countries. Through its network of national Red Cross and Red Crescent societies, IFRC has unparalleled community access and provides critical health services and activities in areas which are otherwise inaccessible to CDC due to security restrictions. Extending immunization services to these areas of unreached children is critical to achieving global eradication of polio.

IFRC is in a unique position to conduct this work, as it is one of the three arms of the International Red Cross and Red Crescent Movement, the world's largest humanitarian network whose mission includes protecting life and health in conflict countries and other emergencies. National Red Cross and Red Crescent Societies are a network of community-based volunteers who support the public authorities in their own countries as independent auxiliaries to the government in the humanitarian field. The community-based volunteers provide local knowledge and culturally competent expertise, which provides unparalleled access to communities. IFRC comprises 190-member Red Cross and Red Crescent National Societies globally, a secretariat based in Geneva and more than 60 country offices strategically located to support activities around the world.

Summary of the Award

Recipient: International Federation of Red Cross and Red Crescent Societies.

Purpose of the Award: The purpose of this award is to support efforts to strengthen and sustain global, regional, and national immunization program capacity needed to:

• Achieve the globally agreed goals of the IA2030 (including polio eradication, global and regional elimination targets for select VPDs including measles and rubella, and neonatal tetanus;

• Achieve the 2030 Sustainable Development Goal (SDG) target to end VPDs of children under 5 years of age;

• Reduce chronic disease and cancer deaths from VPDs; and

• Prevent, detect, and respond to VPD outbreaks.

Amount of Award: The approximate year 1 funding amount will be $6,000,000 in Federal Fiscal Year (FYY) 2023 funds, subject to the availability of funds. Funding amounts for years 2-5 will be set at continuation.

Authority: This program is authorized under Section 307 of the PHS Act (42 U.S.C 242); section 317(k)(1) and (2) of the PHS Act (42 U.S.C. 247b(k)(1) and (2).

Period of Performance: 7/1/2023 through 6/30/2028.

Dated: February 15, 2023.
Terrance Perry,
Chief Grants Management Officer, Centers for Disease Control and Prevention.

[FR Doc. 2023-03522 Filed 2-17-23; 8:45 am]

BILLING CODE 4163-18-P